DEPARTMENT OF AGRICULTURE

Forest Service

Grays Harbor Resource Advisory Committee (RAC)

AGENCY: Forest Service, USDA.

ACTION: Notice of meeting.

SUMMARY: The Grays Harbor Resource Advisory Committee will hold its next meeting on February 25, 2002. The meeting will be held at the Hoquiam Library at 420 Seventh Street, Hoquiam, Washington. The meeting will begin at 7 p.m. and end at approximately 9 p.m. Agenda topics are: (1) Introductions; (2) approval of minutes of previous meetings; (3) bylaw update; (4) review and select process for applications; (5) presentation of project proposals; (6) selection of recommended projects and priorities; (7) public comments; and (8) identify next meeting date and location.

All Grays Harbor Resource Advisory Committee Meetings are open to the public. Interested citizens are encourage to attend.

FOR FURTHER INFORMATION CONTACT: Direct questions regarding this meeting to Ken Eldredge, RAC Liaison, USDA, Olympic National Forest Headquarters, 1835 Black Lake Blvd., Olympia, WA 98512-5623, (360) 956-2323 or Dale Hom, Forest Supervisor and Designated Federal Official, at (360) 956-2301.

Dated: January 29, 2002.
Dale Hom,
Forest Supervisor, Olympic National Forest.

[FR Doc. 02-2648 Filed 2-4-02; 8:45 am]

BILLING CODE 3410-11-M